COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete service(s) from the Procurement List that were furnished by nonprofit agencies employing persons who are blind or have other severe disabilities.

DATES: Comments must be received on or before: March 21, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletion

The following product(s) and service(s) are proposed for deletion to the Procurement List:

Services(s)

Service Type: Janitorial/Custodial

Mandatory for: VA Medical Center, 1481 W 10th Street, 1st Floor, Indianapolis, IN

Designated Source of Supply: GW Commercial Services, Inc., Indianapolis, IN

Contracting Activity: DEPARTMENT OF VETERANS AFFAIRS, 583—INDIANAPOLIS

Service Type: Custodial & Grounds Maintenance

Mandatory for: Richard L. Roudebush VAMC, Building 7: 2669 Cold Springs Road, Indianapolis, IN Richard L. Roudebush VAMC: Basement, 2nd Floor, Outbuildings, Parking Garage, 1481 W Tenth Street, Indianapolis, IN

Designated Source of Supply: GW Commercial Services, Inc., Indianapolis, IN

Contracting Activity: DEPARTMENT OF VETERANS AFFAIRS, NAC

Service Type: Custodial Service

Mandatory for: US Navy, NEXCOM, Norfolk Naval Base, Base Exchange, Norfolk, VA, 1560 Mall Dr., Bldg. CD-13, Norfolk, VA

Designated Source of Supply: Didlake, Inc., Manassas, VA

Contracting Activity: DEPARTMENT OF THE NAVY, NAVY EXCHANGE SERVICE COMMAND

Service Type: Administrative Services

Mandatory for: Defense Logistics Agency, Logistics Information Services, Hart Dole Inouye Federal Center, Defense Reutilization & Marketing Service, Battle Creek, MI, 74 N Washington Avenue, Battle Creek, MI

Designated Source of Supply: Peckham Vocational Industries, Inc., Lansing, MI

Contracting Activity: DEFENSE LOGISTICS AGENCY, DLA DISPOSITION SERVICES—EBS

Service Type: Janitorial/Grounds Maintenance

Mandatory for: US Army, Soo Area Office, Sault Ste. Marie, MI, 312 W Portage Avenue, Sault Ste. Marie, MI

Designated Source of Supply: Northern Transitions, Inc., Sault Ste. Marie, MI

Contracting Activity: DEPT OF THE ARMY, W072 ENDIST DETROIT

Service Type: Grounds Maintenance

Mandatory for: US Army, Fort Lawton Cemetery, Seattle, WA, 3801 Discovery Park Blvd., Fort Lawton, WA

Designated Source of Supply: AtWork!, Bellevue, WA

Contracting Activity: DEPT OF THE ARMY, W6QM MICC-JB LEWIS-MC CHORD

Service Type: Janitorial/Custodial

Mandatory for: Navy Exchange Service Command (NEXCOM), NEXCOM, Oceana Naval Air Station, Base Exchange, Virginia Beach, VA, 1449 Tomcat Blvd., Virginia Beach, VA

Mandatory for: Navy Exchange Service Command (NEXCOM), Navy Exchange Service Command, Dam Neck Fleet Combat Training Center Atlantic, Base Exchange, 1977 Terrier Ave., Bldg. 524, Virginia Beach, VA

Designated Source of Supply: Sara's Mentoring Center, Inc., Virginia Beach, VA

Contracting Activity: DEPT OF THE NAVY, Navy Exchange Service Command

Service Type: Custodial Services

Mandatory for: US GAO, Dayton GAO Field Office, 2196 D Street, Building 39, Wright-Patterson AFB, Dayton, OH

Designated Source of Supply: Goodwill Easter Seals Miami Valley, Dayton, OH

Contracting Activity: US GAO ACQUISITION MANAGEMENT

Michael R. Jurkowski,
Director, Business Operations.

[FR Doc. 2026-03267 Filed 2-18-26; 8:45 am]

BILLING CODE 6353-01-P